DEPARTMENT OF COMMERCE

National Oceanic and Atmospheric Administration

50 CFR Part 679

[Docket No. 030804191-3191-01; I.D. 071603A]

RIN 0648-AR31

Fisheries of the Exclusive Economic Zone Off Alaska; Allocation of Pacific Cod Among Fixed Gear Sectors

AGENCY: National Marine Fisheries Service (NMFS), National Oceanic and Atmospheric Administration (NOAA), Commerce.

ACTION: Proposed rule; request for comments.

SUMMARY: NMFS issues a proposed rule that would implement Amendment 77 to the Fishery Management Plan for the Groundfish Fishery of the Bering Sea and Aleutian Islands Area (FMP). If approved, Amendment 77 would continue to apportion the Bering Sea and Aleutian Islands Management Area (BSAI) Pacific cod total allowable catch (TAC) among the fixed gear sectors. In addition, this action would split the pot sector share of the TAC between pot catcher/processors and pot catcher vessels, change the way the 2-percent annual BSAI Pacific cod allocation to jig gear is seasonally apportioned, and change the way unused portions are reallocated to other gear types. Amendment 77 is intended to maintain the stability of the fixed gear Pacific cod fishery. This action is intended to promote the goals and objectives of the Magnuson-Stevens Fishery Conservation and Management Act (Magnuson-Stevens Act), the FMP, and other applicable laws.

DATES: Comments must be received by October 2, 2003.

ADDRESSES: Comments may be sent to Sue Salveson, Assistant Regional Administrator, Sustainable Fisheries Division, Alaska Region, NMFS, P.O. Box 21668, Juneau, AK, 99802, Attn: Lori Durall, or delivered to room 420 of the Federal Building, 709 West 9th Street, Juneau, AK. Comments may also be sent via facsimile (fax) to 907-586-7557. Comments will not be accepted if submitted via e-mail or Internet. Copies of the Environmental Assessment/Regulatory Impact Review/Initial Regulatory Flexibility Analysis (EA/RIR/IRFA) prepared for the proposed rule may be obtained from the same address.

FOR FURTHER INFORMATION CONTACT: Nina Mollett, 907-586-7462 or Nina.Mollett@noaa.gov.

SUPPLEMENTARY INFORMATION: The groundfish fisheries in the exclusive economic zone (EEZ) of the BSAI are managed under the FMP. The North Pacific Fishery Management Council (Council) prepared the FMP under the authority of the Magnuson-Stevens Fishery Conservation and Management Act (Magnuson-Stevens Act), 16 U.S.C. 1801, et seq. Regulations implementing the FMP appear at 50 CFR part 679. General regulations governing U.S. fisheries also appear at 50 CFR part 600.

The Council submitted Amendment 77 for Secretary of Commerce review, and it published a Notice of Availability of the FMP amendment in the Federal Register on July 22, 2003 (68 FR 43342), with comments on the FMP amendment invited through September 22, 2003.

Comments may address the FMP amendment, the proposed rule, or both, but must be received by September 22, 2003 to be considered in the approval/disapproval decision on the FMP amendment. All comments received by that time, whether specifically directed to the FMP amendment or to the proposed rule, will be considered in the approval/disapproval decision on the FMP amendment.

Background

Amendment 77 is intended to respond to concerns that the stability of the fully utilized Pacific cod fishery is threatened by increased competition. This competition has been fueled in part by recent increases in the market value of Pacific cod products and in part by decreases in opilio crab guideline harvest level (GHL). Participants in the BSAI fixed gear Pacific cod fishery include hook-and-line and pot gear fishermen with extensive catch histories. Absent the current gear allocations under Amendment 64, which are set to sunset on December 31, 2003, no regulatory mechanism is in place that would prevent one sector from increasing its effort in the fishery and from eroding another sector's relative historical share. The proposed split between the two sectors of the Pacific cod pot gear fishery is similarly intended to prevent one sector from eroding the other's market share.

Formal allocation of the BSAI Pacific cod TAC among gear types began in 1994 with the passage of Amendment 24 to the FMP. Amendment 24 and subsequently Amendment 46 allocated the Pacific cod TAC among vessels using jig gear, trawl gear, and fixed gear (hook-and-line and pot). Under Amendment 46, which was implemented in 1997, 2 percent of the TAC was reserved for jig gear, 51 percent for fixed gear, and 47 percent for trawl gear. The amendment further split the trawl apportionment equally between catcher vessels and catcher/processors, but did not split the fixed gear allocation between hook-and-line and pot gear vessels.

At its April 1999 meeting, the Council initiated an analysis to examine the probable effects of further splitting the fixed gear allocation of Pacific cod. In October of that year, the Council approved Amendment 64, which allocated the fixed gear portion of the BSAI TAC among its four sectors as follows:

•80 percent - hook-and-line catcher/processors;

•0.3 percent - hook-and-line catcher vessels;

•18.3 percent - pot vessels;

•1.4 percent - catcher vessels less than 60 ft (18.3 m) length overall (LOA), using pot or hook-and-line gear.

The percentages were roughly based on the historical harvest shares of each gear sector from 1995 through 1998, with the exception of the allocation to catcher vessels less than 60 ft (18.3 m) LOA, which received more than their actual historical share.

Amendment 64 was approved by the U.S. Secretary of Commerce in July 2000 and became effective on September 1, 2000 (65 FR 51553, August 24, 2000). Amendment 64 and its implementing rule include a sunset date of December 31, 2003; the allocations established for the fixed gear sectors will expire at that time.

Amendment 77 and its implementing rule would supersede Amendment 64. It would remove the sunset provision for the fixed gear sector allocations established by Amendment 64. It would further allocate the pot sector's share between pot catcher vessels and pot catcher/processors. It would also change the rollover provisions for unused quota from the jig gear sector, in effect reallocating some quota that is typically allocated to the catcher/processor sector to the less than 60 ft (18.3 m) LOA catcher vessel sector. Each of these provisions is discussed below.

Preserving Allocation Among Fixed Gear Sectors

Hook-and-line and pot gear fishermen have expressed concern with the pending expiration of the fixed gear allocations for BSAI Pacific cod under Amendment 64, and the potential for serious disruption to the fishery if no gear allocations are in place for the 2004 fishing year. Increased prices for Pacific cod, reduced crab GHLs, and shortened or canceled crab seasons due to low resource abundance have resulted in increased harvests of Pacific cod by vessels using pot gear. Fishermen that are displaced from the crab fisheries have expressed interest in fishing for Pacific cod, spurring concerns by long-term Pacific cod fishermen about erosion of their gear harvest shares in the fishery in favor of vessels using pot gear with limited historical participation in the fishery. Approval of Amendment 77 would maintain the status quo allocations of Pacific cod for the fixed gear sector with some modifications, including a change in the rollover provisions for jig gear and a split in the allocation between the two sectors of the Pacific cod pot gear fishery.

Further Split of Pot Sector Share

Amendment 77 would split the pot gear sector share of the TAC between pot catcher/processors and pot catcher vessels. In October 1999, when the Council approved Amendment 64, the pot catcher/processor sector requested a direct gear allocation, similar to the separate allocations the hook-and-line sectors received under Amendment 64. The Council acknowledged that a similar split between catcher/processors and catcher vessels using pot gear might be desirable. However, because the public had not been given an opportunity to comment on the idea, the Council, delaying the action, decided to include the proposal in a follow-up amendment (proposed BSAI Amendment 68 to the FMP).

In June 2000, the Council considered Amendment 68 to create separate allocations for the pot catcher/processor and pot catcher vessel sectors, but decided to again delay action until the allocation to pot gear sectors could be included in one FMP amendment that would also address the issues associated with the expiration of Amendment 64.

Under Amendment 77 as adopted by the Council, the pot share of the BSAI Pacific cod fixed gear TAC would be allocated between pot catcher/processors and pot catcher vessels based on catch histories by the two sectors from 1998 through 2001. In effect, this action would split the pot gear vessel quota, providing 82 percent to catcher vessels and 18 percent to catcher/processors. Catcher vessels, which have been catching an increasing proportion of the harvest over recent years, would receive about 6 percent more than they would if the split were based on 1995-1999 catch histories, the earliest option analyzed in the EA/RIR/IRFA.

With the pot catcher vessel and pot catcher/processor split taken into account, the fixed gear sectors under Amendment 77 would receive the following shares of the BSAI Pacific cod fixed gear TAC:

• 80.0 percent to hook-and-line catcher/processors;

• 0.3 percent to hook-and-line catcher vessels;

• 3.3 percent to pot catcher/processors;

• 15.0 percent to pot catcher vessels; and

• 1.4 percent to catcher vessels less than 60 ft (18.3 m) LOA, using pot or hook-and-line gear.

Proposed Rollover Requirements

The proposed rule implementing Amendment 77 would also include new rollover requirements for unharvested portions of the jig sector allocation. Currently, regulatory provisions authorized under Amendment 64 require that unused portions of the overall BSAI Pacific cod allocations to trawl and jig gear be reallocated 95 percent to the hook-and-line catcher/processor sector and 5-percent to vessels using pot gear. Furthermore, reallocation of the unused portion of the jig gear TAC is not authorized until September 15 of each fishing year.

Under Amendment 77, unused trawl quota would be reallocated in nearly the same manner, except that the 5 percent pot gear reallocation would be split further between the two sectors of the pot vessel fleet, using the same percentages as would apply to the overall pot vessel quota, as explained above. The reallocated trawl gear would, therefore, amount to 95 percent to the hook-and-line catcher/processor sector, 0.9 percent to pot catcher/processors, and 4.1 percent to pot catcher vessels.

Unused jig gear quota, however, would be handled differently than under current regulations. The quota would be apportioned to the jig gear sector through the annual harvest specification process on a trimester basis. The three seasonal apportionments for the jig gear allocation would be 40 percent, 20 percent, and 40 percent respectively for January April, May August, and September December. Projected amounts of unharvested jig gear seasonal apportionments would be initially reallocated each jig season to catcher vessels less than 60 ft (18.3 m) using hook-and-line or pot gear. Only if the Regional Administrator determines that the small vessel fleet would not be able to harvest the additional amounts of Pacific cod would these jig gear rollover amounts be made available to the hook-and-line catcher/processor sector.

In effect, the new rollover provisions in Amendment 77 would primarily represent a reallocation from the hook-and-line catcher/processor fleet to smaller vessels. The jig sector harvested an average of 6 percent of its BSAI Pacific cod allocation from 1995 to 2001. Since the implementation of Amendment 64 in 2000, quota reallocated from the jig sector has accounted for about 3.3 percent of the hook-and-line catcher/processor sector's total catch and 0.5 percent of the pot sector's total catch. Under the proposed action, 40 percent of the jig quota, less whatever catch the jig gear sector is projected to take, could be potentially reallocated to the less than 60 ft (18.3 m) LOA catcher fleet by April, more than doubling the total Pacific cod quota available to that fleet (based on the 2003 TAC). This seasonal front-loading would benefit the small vessel fleet not only by increasing its quota at a time when the fleet has just started fishing for Pacific cod, but also by reducing the risk of having to close the less than 60 ft (18.3 m) LOA fishery intermittently while the fleet waits for quota reallocated from the jig sector.

Members of the public testifying in favor of retaining the status quo for jig gear rollovers argued that such a reallocation should be considered only as part of an overall gear allocation discussion of all allocations affecting all sectors. Speakers stressed that when the Council approved Amendment 64 in 1999, giving the jig gear sector a two percent allocation, the parties involved understood that most of the jig gear sector's unused quota would continue to be reallocated to the catcher/processor fleet. Apportioning some of the unharvested jig allocation instead to the under 60 ft (18.3 m) LOA vessels was portrayed as reneging on a bargain, and speakers stressed that the amount of catch under discussion is not trivial.

Speakers who favored changing the way jig rollovers would be apportioned expressed their belief that the original intent of the two percent jig allocation was to develop the small boat fleet in support of coastal communities, that pot and hook-and-line vessels less than 60 ft (18.3 m) LOA play a similar role to jig vessels in community development, emphasized the extremely low bycatch rate of the small pot vessels, and said that the proportion of TAC affected was relatively minor.

In effect, the option the Council adopted was a compromise, because the third trimester's allocation of unused jig quota probably could not be completely harvested by the catcher vessels less than 60 ft (18.3) LOA and would be reallocated to hook-and-line catcher/processors during the last trimester. Depending on when fishery managers are able to project catch for the second trimester, some or all of the reallocated jig catch from the second trimester might also be reallocated to the hook-and-line catcher/processor fleet.

The small boat fleet is most capable of fishing in the spring and summer, partly due to weather considerations later in the year. Other constraints exist as well. Hook-and-line vessels cannot fish for Pacific cod between noon on June 10 and noon on August 15 because they typically receive little or no halibut bycatch as part of the rulemaking implementing the annual harvest specifications; and pot vessels are constrained by the A and B seasons established under Steller sea lion protection measures. Under these measures, pot vessels greater than or equal to 60 ft (18.3 m) LOA may not harvest BSAI Pacific cod in a directed fishery between June 10, when the A season ends and September 1, when the B season begins. The A season share is 60 percent and the B season share is 40 percent of the pot quota. Whenever the general pot gear fisheries are closed, catcher vessels less than 60 ft (18.3 m) LOA using pot gear are allowed to harvest the 1.4 percent of the BSAI Pacific cod TAC set aside for catcher vessels less than 60' LOA. As of September 1, however, all pot catcher boats, including those under 60 ft (18.3 m) LOA, would fish for the B season portion of the proposed 15 percent allocation to pot catcher vessels. In other words, small vessels fishing with pot gear are unlikely to need extra quota over the fall months, when they are much less likely to want to fish due to poor weather conditions in the Bering Sea, and when their harvests are deducted from the general pot catcher vessel quota. The jig gear reallocation in the proposed rule would, however, allow them to avoid the constraint of the 1.4 percent quota which limits them during the summer months.

Classification

At this time, NMFS has not determined whether the amendment that this proposed rule would implement is consistent with the national standards of the Magnuson-Stevens Act and other applicable laws. NMFS, in making that determination, will take into account the data, views, and comments received during the comment period.

This proposed rule has been determined to be not significant for the purposes of Executive Order 12866.

The Council prepared an Initial Regulatory Flexibility Analysis (IRFA), which describes any adverse impacts this proposed rule, if adopted, would have on directly regulated small entities. A summary of the IRFA follows:

The directly regulated entities for Amendment 77 would be those vessels participating in the Pacific cod fixed gear fishery in the BSAI. The Small Business Administration has established size criteria for defining a small entity in the fish harvesting business; it must be independently owned and operated, not dominant in its field of operation (including its affiliates), and with combined annual receipts not in excess of $3.5 million for all its affiliated operations worldwide. Some vessels that participate in the Pacific cod fixed gear fishery might be considered large entities under the SBA definition because they are either affiliated under owners of multiple vessels or are catcher/processors. However, little is known about the ownership structure of the vessels in the fleet, and for purposes of the IRFA, all Pacific cod hook-and-line and pot catcher vessels were considered small businesses.

The smallest entities in the catcher vessel fleets, vessels less than 60 ft (18.3 m) LOA, do not need a Pacific cod endorsement to continue prosecuting the BSAI Pacific cod fishery, but they must meet the requirements of the License Limitation Program (LLP). Thirty-two unique pot catcher vessels and 96 hook-and-line catcher vessels in this size category are documented to have made at least one landing in the directed BSAI Pacific cod fishery during 1995-2001 and appear to be qualified under the LLP to use non-trawl gear in the BSAI groundfish fisheries. On average since 1995, however, only 18 hook-and-line and 5 pot catcher vessels have participated in any one year.

Amendment 67 to the BSAI Groundfish FMP, which became effective January 1, 2003, adds a Pacific cod endorsement to Federal licenses held by fixed gear vessels that qualify for a BSAI area endorsement under the current LLP and also meet specified qualification criteria in terms of catch history for their gear type. Under Amendment 67, a total of about 57 catcher vessels greater than or equal to 60 ft (18.3 m) LOA (3 longline and 54 pot vessels) likely will receive catcher vessel (CV) endorsements on their licenses to participate in the Bering Sea Pacific cod fixed gear fishery. This is a substantial reduction in the fleet 129 unique longline and 226 unique pot catcher vessels of any length participated at any time from 1995 to 2001. An estimated forty-six vessels greater than or equal to 60 ft (18.3 m LOA (40 longline and 6 pot vessels) likely will receive catcher/processor (CP) endorsements on their licenses to participate in the Bering Sea Pacific cod fixed gear fishery. In addition, an estimated six longline catcher/processors and three pot catcher processors will qualify for a CV endorsement for their respective gear types.

Although the appeals processes associated with interim licenses are not complete, all 54 of the pot catcher vessels, and one of the pot catcher/processors, that potentially qualify for a Pacific cod endorsement appear to have earned gross revenues of less than $3.5 million and thus are considered small businesses.

Due to the small number of participants, data regarding the three hook-and-line catcher vessels are confidential, but they all appear to have earned revenues of less than $3.5 million and thus are considered small businesses. Of the six longline catcher/processors that meet only the CV qualifications for endorsements, which is based on landings over the years 1995 1999, all six appear to meet the SBA definition of small businesses. Several others among the 40 catcher/processor vessels are estimated to receive a hook-and-line CP endorsement also reported annual receipts of less than $3.5 million; however, little is known about the ownership of this fleet, so developing a meaningful estimate of how many are small entities is not possible.

Adding these numbers gives a total estimate of about 87 vessels that would be directly regulated by this action: 55 pot vessels greater than or equal to 60 ft (18.3 m) LOA; 5 pot vessels less than 60 ft LOA; 9 hook-and-line vessels greater than or equal to 60 ft (18.3 m) LOA; and 18 hook-and-line catcher vessels less than 60 ft (18.3 m) LOA.

The IRFA analysis of expected impacts on small entities under the alternatives noted that, because the proposed action would maintain a percentage distribution among gear sectors very close to the average harvest level since 1995, net effects would be expected to be minimal relative to the status quo alternative and possibly in relation to the no action alternative as well, The IRFA assumes that the distribution of harvest would not change significantly under the no action alternative because estimates of changes that might occur in the absence of fixed gear allocations cannot be made. However, some changes may occur; indications are that each sector might want to increase its relative share of the Pacific cod TAC, especially given the current, relatively low opilio crab GHL, and the limited opportunity in alternative fisheries. How the competition would play out is not easy to predict; although it is likely there would be more fishing pressure in the A season, and unlikely that smaller boats would increase their share.

The fixed gear allocations under Amendment 64 have been in place since mid 2000, so each sector has been constrained by those allocations. However, the pot gear share of the fixed gear Pacific cod TAC has not been further apportioned between pot catcher/processors and pot catcher vessels. The pot catcher vessel sector increased its relative share of the pot gear quota in 2000, 2001, and 2002, and the number of pot vessels less than 60 ft (18.3 m) LOA is not constrained by the Pacific cod endorsement requirement under Amendment 67. The action as approved by the Council, which would split the pot sector allocation based on catch histories from 1998-2001, would allow the pot catcher vessels to maintain the higher percentage of pot sector quota TAC that they have achieved in the past few years relative to the pot catcher/processors.

As with many allocation-based management measures, the alternatives propose a percentage allocation of the TAC among competing groups of vessels. In this case, vessels in each group are primarily small entities representing a tradeoff in terms of impacts; some small entities could be negatively affected, and others positively affected. Under Amendment 64, and again proposed under this amendment, a separate allocation of 1.4 percent was made to hook-and-line and pot catcher vessels less than 60 ft (18.3 m) LOA, the effect of which was to allocate more Pacific cod to catcher vessels delivering to shorebased processors than they had historically harvested. That type of allocation tends to disproportionately benefit the smallest entities among these fishery sectors. The proposed seasonal reallocation of unused Pacific cod jig gear quota from hook-and-line catcher/processors to the less than 60 ft (18.3 m) LOA pot and hook-and-line vessels similarly is a tradeoff that benefits the smaller entities.

Nothing in the proposed amendment would cause any obvious disproportionate regulatory impacts to small entities, relative to large ones. From one perspective, setting a percentage allocation will keep one sector from increasing its share relative to what it could do under the no action alternative. Based on the information developed for the RIR and from public testimony, it appears that the pot sector is more likely to increase its relative share in the absence of a quota split. Another way to look at this, is that continuing separate BSAI Pacific cod allocations for the fixed gear sectors would serve to maintain the current share taken by the smallest entities.

Another mitigating effect should occur from implementation of Amendment 67. One of the points raised in opposition to the split when it was considered in 1999 under Amendment 64 is that many pot vessels are qualified under the LLP but have not participated in the Pacific cod fishery, and if the pot sector's share of the quota were fixed at a specific level, and some of these vessels began to participate, pot vessels already participating in and dependent on the fishery would be at a disadvantage. The intent of Amendment 67, which went into effect on January 1, 2003, is to eliminate the latent capacity in both the pot and longline fleets by adopting species and gear endorsements based on a set of minimum level of landings and years of participation.

Nothing in the proposed action would result in any changes in reporting or recordkeeping requirements, and NMFS has not identified any relevant Federal rules that may duplicate, overlap, or conflict with the preferred alternative.

List of Subjects in 50 CFR Part 679

Alaska, Fisheries, Recordkeeping and reporting requirements.

Dated: August 12, 2003.
William T. Hogarth,
Assistant Administrator for Fisheries, National Marine Fisheries Service.

For reasons set out in the preamble, 50 CFR part 679 is proposed to be amended as follows:

PART 679—FISHERIES OF THE EXCLUSIVE ECONOMIC ZONE OFF ALASKA

1. The authority citation for part 679 continues to read as follows:

Authority: 16 U.S.C. 773 et seq., 1801 et seq., and 3631 et seq.; Title II of Division C, Pub. L. 105-277; Sec. 3027, Pub L. 106-31, 113 Stat. 57; 16 U.S.C. 1540(f).

2. In § 679.20, paragraphs (a)(7)(i)(C), (a)(7)(ii)(C), and (a)(7)(iii)(A) are revised to read as follows:

§ 679.20 General limitations.

* * * * *

(a) * * *

(7) ***

(i) ***

(C) Allocations among vessels using hook-and-line or pot gear. (1) The Regional Administrator annually will estimate the amount of Pacific cod taken as incidental catch in directed fisheries for groundfish other than Pacific cod by vessels using hook-and-line or pot gear and deduct that amount from the portion of Pacific cod TAC annually allocated to hook-and-line or pot gear under paragraph (a)(7)(i)(A) of this section. The remainder will be further allocated as directed fishing allowances as follows:

(i) 80.0 percent to catcher/processor vessels using hook-and-line gear;

(ii) 0.3 percent to catcher vessels using hook-and-line gear;

(iii) 3.3 percent to catcher/processor vessels using pot gear;

(iv) 15.0 percent to catcher vessels using pot gear; and

(v) 1.4 percent to catcher vessels less than 60 ft (18.3 m) LOA that use either hook-and-line or pot gear.

(2) Harvest of Pacific cod by catcher vessels less than 60 ft (18.3 m) LOA using pot gear:

(i) Will accrue against the 15 percent specified in paragraph (a)(7)(i)(C)(1)(iv) of this section when the directed fishery for Pacific cod by catcher vessels equal to or greater than 60 ft (18.3 m) LOA using pot gear is open.

(ii) Will accrue against the 1.4 percent specified in paragraph (a)(7)(i)(C)(1)(v) of this section when the directed fishery for Pacific cod by catcher vessels equal to or greater than 60 ft (18.3 m) LOA using pot gear is closed.

* * * * *

(ii) * * *

(C) Reallocation among vessels using trawl or non-trawl gear. If, during a fishing year, the Regional Administrator determines that vessels using trawl gear, hook-and-line gear, pot gear or jig gear will not be able to harvest the entire amount of Pacific cod in the BSAI allocated to those vessels under paragraphs (a)(7)(i)(A), (a)(7)(i)(B) or (a)(7)(i)(C) of this section, NMFS will reallocate the projected unused amount of Pacific cod to vessels harvesting Pacific cod using the other gear type(s) through notification in the Federal Register, subject to the provisions below:

(1) Reallocation of TAC specified for jig gear. The Regional Administrator will reallocate any projected unused portion of a seasonal allowance of Pacific cod for vessels using jig gear under paragraphs (a)(7)(i)(A) and (a)(7)(iii)(A) of this section to catcher vessels less than 60 ft (18.3 m) LOA using hook-and-line or pot gear.

(2) Reallocation of TAC specified for trawl gear. The Regional Administrator will reallocate any projected unharvested amounts of Pacific cod TAC allocated to trawl gear under paragraph (a)(7)(i) of this section: 95 percent to catcher/processor vessels using hook-and-line gear, 0.9 percent to catcher/processor vessels using pot gear, and 4.1 percent to catcher vessels using pot gear.

* * * * *

(iii) * * *

(A) Seasonal apportionment and gear allocations. The BSAI Pacific cod gear allocations and apportionments by seasons, as specified in § 679.23 (e)(5), are as follows:

Gear Type | A season | B season | C season
(1) trawl | 60 percent | 20 percent | 20 percent
(i) trawl CV | 70 percent | 10 percent | 20 percent
(ii) trawl CP | 50 percent | 30 percent | 20 percent
(2) hook-and-line ≥60 ft (18.3 m)LOA, and non-CDQ pot vessels ≥60 ft (18.3 m) LOA | 60 percent | 40 percent |
(3) jig vessels | 40 percent | 20 percent | 40 percent
(4) all other nontrawl vessels | no seasonal apportionment

* * * * *

3. In § 679.23, paragraph (e)(5)(i) introductory text is revised, and paragraph (e)(5)(iv) is added, to read as follows:

§ 679.23 Seasons.

* * * * *

(e) * * *

(5) Directed fishing for Pacific cod—(i) Hook-and-line gear. Subject to other provisions of this part, directed fishing for CDQ and non-CDQ Pacific cod with vessels equal to or greater than 60 ft (18.3 m) LOA using hook-and-line gear is authorized only during the following two seasons:

* * * * *

(iv) Jig gear. Subject to other provisions of this part, directed fishing for CDQ and non-CDQ Pacific cod with jig gear is authorized only during the following three seasons:

(A) A season. From 0001 hours, A.l.t., January 1 through 1200 hours, A.l.t., April 30;

(B)B season. From 1200 hours, A.l.t., April 30 through 1200 hours, A.l.t., August 31;

(C) C season. From 1200 hours, A.l.t., August 31 through 2400 hours, A.l.t., December 31.

* * * * *

[FR Doc. 03-21048 Filed 8-15-03; 8:45 am]

BILLING CODE 3510-22-S